DEPARTMENT OF STATE

[Public Notice 9135]

List of September 20, 2005, of Participating Countries and Entities in the Kimberley Process Certification Scheme, Known as “Participants” for the Purposes of the Clean Diamond Trade Act of 2003 (Pub. L. 108-19) and Section 2 of Executive Order 13312 of July 29, 2003.

AGENCY: Department of State.

ACTION: Notice.

SUMMARY: In accordance with Sections 3 and 6 of the Clean Diamond Trade Act of 2003 (Pub. L. 108-19) and Section 2 of Executive Order 13312 of July 29, 2003, the Department of State is updating the list of Participants eligible for trade in rough diamonds under the Act, and their respective Importing and Exporting Authorities, revising the previously published list of August 11, 2014 to reflect certain technical revisions of the List; to maintain temporary self-suspension of Venezuela from trade under the Kimberley Process as of November 4, 2010; and to maintain the suspension of the Central African Republic from trade under the Kimberley Process as of May 23, 2013.

FOR FURTHER INFORMATION CONTACT: Ashley Orbach, Special Advisor, Bureau of Economic and Business Affairs, Department of State, (202) 647-2856.

SUPPLEMENTARY INFORMATION: Section 4 of the Clean Diamond Trade Act (the “Act”) requires the President to prohibit the importation into, or the exportation from, the United States of any rough diamond, from whatever source, that has not been controlled through the Kimberley Process Certification Scheme (KPCS). Under Section 3(2) of the Act, “controlled through the Kimberley Process Certification Scheme” means an importation from the territory of a Participant or exportation to the territory of a Participant of rough diamonds that is either (i) carried out in accordance with the KPCS, as set forth in regulations promulgated by the President, or (ii) controlled under a system determined by the President to meet substantially the standards, practices, and procedures of the KPCS. The referenced regulations are contained at 31 CFR part 592 (“Rough Diamond Control Regulations”)(68 FR 45777, August 4, 2003).

Section 6(b) of the Act requires the President to publish in the Federal Register a list of all Participants, and all Importing and Exporting Authorities of Participants, and to update the list as necessary. Section 2 of Executive Order 13312 of July 29, 2003 delegates this function to the Secretary of State. Section 3(7) of the Act defines “Participant” as a state, customs territory, or regional economic integration organization identified by the Secretary of State. Section 3(3) of the Act defines “Exporting Authority” as one or more entities designated by a Participant from whose territory a shipment of rough diamonds is being exported as having the authority to validate a Kimberley Process Certificate. Section 3(4) of the Act defines “Importing Authority” as one or more entities designated by a Participant into whose territory a shipment of rough diamonds is imported as having the authority to enforce the laws and regulations of the Participant regarding imports, including the verification of the Kimberley Process Certificate accompanying the shipment.

List of Participants

Pursuant to Sections 3 and 6 of the Act, Section 2 of Executive Order 13312, Department of State Delegation of Authority No. 245-1 (February 13, 2009), and the Delegation of Authority from the Deputy Secretary to the Under Secretary dated October 31, 2011, I hereby identify the following entities as of November 14, 2014, as Participants under section 6(b) of the Act. Included in this List are the Importing and Exporting Authorities for Participants, as required by Section 6(b) of the Act. This list revises the previously published list of August 11, 2014, to reflect certain technical revisions to the List, to add Mali to the List, to maintain the temporary self-suspension of Venezuela from trade under the Kimberley Process as of November 4, 2010, and to maintain the suspension of the Central African Republic from trade under the Kimberley Process as of May 23, 2013.

Angola—Ministry of Geology and Mines.

Armenia—Ministry of Trade and Economic Development.

Australia—Exporting Authority—Department of Industry, Tourism and Resources; Importing Authority—Australian Customs Service.

Bangladesh—Ministry of Commerce.

Belarus—Department of Finance.

Botswana—Ministry of Minerals, Energy and Water Resources.

Brazil—Ministry of Mines and Energy.

Cambodia—Ministry of Commerce.

Cameroon—National Permanent Secretariat for the Kimberley Process in Cameroon.

Canada—Natural Resources Canada.

China—General Administration of Quality Supervision, Inspection and Quarantine.

Congo, Democratic Republic of the—Ministry of Mines.

Congo, Republic of the—Ministry of Mines.

Cote D'Ivoire (Ivory Coast)—Ministry of Mines and Energy.

European Union—DG/External Relations/A.2.

Ghana—Precious Minerals and Marketing Company Ltd.

Guinea—Ministry of Mines and Geology.

Guyana—Geology and Mines Commission.

India—The Gem and Jewelry Export Promotion Council.

Indonesia—Directorate General of Foreign Trade of the Ministry of Trade.

Israel—The Diamond Controller.

Japan—Ministry of Economy, Trade and Industry.

Kazakhstan—Ministry of Finance.

Korea, South—Ministry of Commerce, Industry and Energy.

Laos—Ministry of Finance.

Lebanon—Ministry of Economy and Trade.

Lesotho—Commissioner of Mines and Geology.

Liberia—Ministry of Lands, Mines and Energy.

Malaysia—Ministry of International Trade and Industry.

Mali—Office of Expertise, Evaluation and Certification of Rough Diamonds.

Mauritius—Ministry of Commerce.

Mexico—Economic Secretariat.

Namibia—Ministry of Mines and Energy.

New Zealand—Ministry of Foreign Affairs and Trade.

Norway—The Norwegian Goldsmiths' Association.

Panama—National Customs Authority.

Russia—Ministry of Finance.

Sierra Leone—Government Gold and Diamond Office.

Singapore—Singapore Customs.

South Africa—South African Diamond Board.

Sri Lanka—National Gem and Jewellery Authority.

Swaziland—Office of the Commissioner of Mines.

Switzerland—State Secretariat for Economic Affairs.

Taiwan (Participating as Chinese Taipei—Bureau of Foreign Trade.

Tanzania—Commissioner for Minerals.

Thailand—Ministry of Commerce.

Togo—Ministry of Mines and Geology.

Turkey—Istanbul Gold Exchange.

Ukraine—State Gemological Centre of Ukraine.

United Arab Emirates—Dubai Metals and Commodities Center.

United States of America—Importing Authority—United

States Bureau of Customs and Border Protection; Exporting Authority—United States Census Bureau.

Vietnam—Ministry of Trade.

Zimbabwe—Ministry of Mines and Mining Development.

This notice shall be published in the Federal Register.

Catherine A. Novelli,
Under Secretary of State, Department of State.

[FR Doc. 2015-12001 Filed 5-15-15; 8:45 am]

BILLING CODE 4710-07-P